DEPARTMENT OF HOMELAND SECURITY

Coast Guard

33 CFR Part 165

[Sector Juneau Western Alaska 06-002]

RIN 1625-AA00

Safety Zone; Grand Island, Stephens Passage

AGENCY: Coast Guard, DHS.

ACTION: Temporary final rule.

SUMMARY: The Coast Guard is establishing a temporary safety zone in the navigable waters south of Grand Island in Stephens Passage. This safety zone is intended to restrict vessels from entering within 2.5 nautical miles of a Coast Guard vessel that is conducting gunnery exercises. Entry into this safety zone, while it is activated and enforced, is prohibited unless authorized by the on-scene U.S. Coast Guard vessel. This safety zone and its periodic activations are necessary to protect the public from the hazards associated with the firing of weapons.

DATES: This temporary rule is effective from June 21, 2006 through December 21, 2006.

ADDRESSES: Documents indicated in this preamble as being available in the docket are part of docket Juneau 06-002 and are available for inspection or copying at District 17 Waterways Management Branch between 8 a.m. and 4 p.m., Monday through Friday, except Federal holidays.

FOR FURTHER INFORMATION CONTACT: LTJG David Wohlers, Phone: 907-463-2265. E-mail: david.c.wohlers@uscg.mil.

SUPPLEMENTARY INFORMATION:

Regulatory Information

We did not publish a notice of proposed rulemaking (NPRM) for this regulation. The Coast Guard is promulgating this safety zone to conduct mission essential training directly related to military operations and national security. Accordingly, based on the military function exception to the Administrative Procedure Act, 5 U.S.C. 553(a)(1), notice and comment rulemaking under 5 U.S.C. 553(b) and an effective date of 30 days after publication under 5 U.S.C. 553(d) are not required for this temporary final rule.

Furthermore, under 5 U.S.C. 553(b)(B), the Coast Guard finds that good cause exists for not publishing an NPRM. This training is necessary to ensure that Coast Guard personnel located within the Seventeenth Coast Guard District are properly trained and certified before conducting military and national security operations for use in securing Alaska ports and waterways. Any delay in training would prevent the units located within the Seventeenth Coast Guard District from becoming capable of accomplishing missions integral to our nation's security, and would therefore be contrary to public interest.

Background and Purpose

This temporary safety zone is necessary to protect vessels and people from hazards associated with live fire from weapons. These hazards include projectiles and ricochets that could damage vessels and cause death or serious bodily harm.

Discussion of Rule

The Grand Island safety zone will include all navigable waters within 2.5 nautical miles, from the surface to the seafloor, of position 58°05′00″ N 134°08′00″ W. This zone will be activated and enforced only when a Coast Guard asset enters the safety zone for the purpose of gunnery training. The Coast Guard will notify the public of its intent to use this zone via a broadcast to mariners 48-hours prior to gunnery exercises. In addition, the Coast Guard will ensure the safety zone is clear of vessels before initiating its gunnery exercise. Entry, transiting, or anchoring within the safety zone, while it is activated and enforced, is prohibited unless authorized by the on-scene U.S. Coast Guard vessel.

U.S. Coast Guard personnel will enforce this safety zone. Other Federal, State, or local agencies may assist the Coast Guard, including the Coast Guard Auxiliary. Section 165.23 of Title 33, Code of Federal Regulations, prohibits any unauthorized person or vessel from entering or remaining in a safety zone. Vessels or persons violating this section will be subject to both criminal and civil penalties.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation is unnecessary. The safety zone is of a limited duration, is limited to a relatively small geographic area, and vessels that cannot reasonably pass around the safety zone will be allowed to transit the zone upon a cease-fire request and approval from the on-scene U.S. Coast Guard vessel via VHF channel 16.

The size of the zone is the minimum necessary to provide adequate protection for personnel or vessels during live fire training. The entities most likely to be affected are pleasure craft engaged in recreational activities and sightseeing, commercial fishing vessels, and cruise ships.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: the owners or operators of vessels intending to transit or anchor in the area affected by this safety zone. This safety zone will not have a significant economic impact on a substantial number of small entities for the following reasons: (i) The zone encompasses only a small portion of the navigable waterways in the area; (ii) vessels are allowed to enter this zone when not occupied by the Coast Guard for the purpose of gunnery training; (iii) vessels may contact the on-scene U.S. Coast Guard vessel on VHF channel 16 to request cease-fire in order to transit the zone. The Coast Guard will notify the public of its intent to use and enforce the zone and will ensure the safety zone is clear of vessels before initiating its gunnery exercise.

Assistance for Small Entities

Under section 213(a) of the Small Business Regulatory Enforcement Fairness Act of 1996 (Pub. L. 104-121), we offered to assist small entities in understanding the rule so that they could better evaluate its effects on them and participate in the rulemaking process. If your small business or organization is affected by this rule and you have questions concerning its provisions or options for compliance, please contact LTJG David Wohlers, U.S. Coast Guard, Waterways Management, District Seventeen at (907) 463-2265.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraphs (3)(a) and (34)(g) of the Instruction, from further environmental documentation because we are establishing a safety zone.

A final “Environmental Analysis Checklist” and a final “Categorical Exclusion Determination” are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. Add new § 165.T17-071 to read as follows:

§ 165.T17-071 Safety Zone; Gunnery Gun Exercises; Grand Island, in Stephens Passage, AK.

(a) Location. The following area is a safety zone: Grand Island Area—all navigable waters 2.5 nautical miles surrounding position 58°05′00″ N 134°08′00″ W. These coordinates are based upon North American Datum of 1983.

(b) Definitions. As used in this section: Designated on-scene representative means a Coast Guard Patrol Commander, including a Coast Guard coxswain, petty officer, or other officer operating a Coast Guard vessel and a Federal, State, and local officer designated by or assisting the U.S. Coast Guard in the enforcement of the safety zone.

(c) Regulations. (1) Under the general regulations in § 165.23, entry into, transiting, or anchoring within a safety zone is prohibited unless authorized by the on-scene U.S. Coast Guard vessel, or the designated on-scene representative.

(2) The safety zone is closed to all vessel traffic, except as may be permitted by the on-scene U.S. Coast Guard vessel or the designated on-scene representative.

(3) Vessel operators desiring to enter or operate within the safety zone must contact the on-scene U.S. Coast Guard vessel or the on-scene representative on channel 16 to obtain permission to do so. Vessel operators given permission to enter or operate in the safety zone must comply with all directions given to them by the on-scene U.S. Coast Guard vessel or the on-scene representative.

(d) Enforcement and suspension of enforcement of certain safety zone.

(1) The safety zone in paragraph (a) of this section will be enforced only when a Coast Guard asset is operating in the safety zone for the purpose of conducting gunnery exercises.

(2) Notice of enforcement and suspension of enforcement will be made by use of broadcast notice to mariners 48 hours prior to the gunnery exercise.

(e) Effective period. This section is effective from June 21, 2006 through December 21, 2006. If the need for the safety zone ends before the scheduled termination time, the U.S. Coast Guard District Seventeen Commander will cease enforcement of this safety zone and notify the public via a broadcast notice to mariners.

Dated: June 21, 2006.
D.T. Glenn,
Captain, U.S. Coast Guard, Commander, Seventeenth Coast Guard District, Acting.

[FR Doc. E6-10649 Filed 7-6-06; 8:45 am]

BILLING CODE 4910-15-P